DEPARTMENT OF COMMERCE

International Trade Administration

[A-549-853]

Large Top Mount Combination Refrigerator-Freezers From Thailand: Termination of Less-Than-Fair-Value Investigation

AGENCY: Enforcement and Compliance, International Trade Administration, Department of Commerce.

SUMMARY: Based on a withdrawal of the antidumping duty (AD) petition on large top mount combination refrigerator-freezers (refrigerators) from Thailand by Electrolux Consumer Products, Inc. (the petitioner), we are terminating this less-than-fair-value (LTFV) investigation.

DATES: Applicable June 11, 2025.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 30, 2024, the U.S. Department of Commerce (Commerce) received an AD petition concerning imports of refrigerators from Thailand, filed in proper form by the petitioner.¹ On July 16, 2024, Commerce published the notice of initiation of this LTFV investigation.² On January 29, 2025, Commerce published the Preliminary Determination.³ On May 28, 2025, the petitioner submitted a letter withdrawing the Petition.⁴

¹ See Petitioner's Letter, “Petition for the Imposition of Antidumping Duties,” dated May 30, 2024 (Petition).

² See Large Top Mount Combination Refrigerator-Freezers from Thailand: Initiation of Less-Than-Fair-Value Investigation, 89 FR 57860 (July 16, 2024). On July 24, 2024, Commerce published a correction to this notice. See Large Top Mount Combination Refrigerator-Freezers from Thailand: Correction, 89 FR 59894 (July 24, 2024).

³ See Large Top Mount Combination Refrigerator-Freezers from Thailand: Preliminary Affirmative Determination of Sales at Less Than Fair Value, Postponement of Final Determination, and Extension of Provisional Measures, 90 FR 8379 (January 29, 2025) (Preliminary Determination).

⁴ See Petitioner's Letter, “Withdrawal of Petition,” dated May 28, 2025.

Termination of the Investigation

Section 351.207(b)(1) of Commerce's regulations stipulates that the Secretary may terminate an investigation, provided it has concluded that termination of the investigation is in the public interest.⁵ After considering the information on the record of this proceeding, including the petitioner's withdrawal letter, Commerce has concluded that termination of this investigation is in the public interest. Accordingly, pursuant to section 734(a)(1)(A) of the Tariff Act of 1930, as amended, and 19 CFR 351.207(b)(1), we are terminating the LTFV investigation of refrigerators from Thailand.

⁵ See GPX Intern. Tire Corp. v. United States, 893 F. Supp. 2d 1296, 1311 (CIT 2013) (“the trade remedy laws are designed to buffer domestic industries from the harm caused by competing with . . . subsidized or dumped foreign products. . . . This purpose is supported by the floor statements that focused on leveling the competitive playing field to protect domestic industries, rather than the general public” (citing 158 Cong. Rec. H1166-73 (daily ed. Mar. 6, 2012)); Federal-Mogul Corp. v. United States, 63 F.3d 1572, 1575 (Fed. Cir. 1995) (“To protect domestic industries from unfair competition by imported products, United States law imposes a duty on dumped goods, that is, goods sold in this country at a price lower than they sell for in their home market”); and Smith-Corona Group v. United States, 713 F.2d 1568, 1576 (Fed. Cir. 1983) (“Congress sought to afford the domestic manufacturer strong protection against dumping”).

Suspension of Liquidation

In the Preliminary Determination, Commerce determined weighted-average dumping margins for exporters of refrigerators from Thailand that were above de minimis. Therefore, we instructed U.S. Customs and Border Protection (CBP) to suspend liquidation of entries of refrigerators from Thailand as of January 29, 2025, the date of publication of the Preliminary Determination.⁶ Because Commerce is terminating this LTFV investigation, we will instruct CBP to terminate suspension of liquidation and refund any cash deposits of estimated antidumping duties for entries of refrigerators from Thailand.

⁶ See Preliminary Determination, 90 FR 8380.

Administrative Protective Order (APO)

This notice also serves as a final reminder to parties subject to an APO of their responsibility concerning the return or destruction of proprietary information disclosed under APO in accordance with 19 CFR 351.305(a)(3). Timely written notification of the return or destruction of APO materials, or conversion to judicial protective order, is hereby requested. Failure to comply with the regulations and terms of an APO is a violation which is subject to sanction.

Dated: June 5, 2025.
Christopher Abbott,
Deputy Assistant Secretary for Policy and Negotiations, performing the non-exclusive functions and duties of the Assistant Secretary for Enforcement and Compliance.

[FR Doc. 2025-10633 Filed 6-10-25; 8:45 am]

BILLING CODE 3510-DS-P